DEPARTMENT OF THE TREASURY

Internal Revenue Service

Quarterly Publication of Individuals, Who Have Chosen To Expatriate, as Required by Section 6039G

AGENCY: Internal Revenue Service (IRS), Treasury.

ACTION: Notice.

SUMMARY: This notice is provided in accordance with IRC section 6039G, as amended, by the Health Insurance Portability and Accountability Act (HIPPA) of 1996. This listing contains the name of each individual losing United States citizenship (within the meaning of section 877(a)) with respect to whom the Secretary received information during the quarter ending June 30, 2002.

LNAME | FNAME | MNAME
Antoniazzi | Remi | Jacgues
Bamberger | Harold | Eugene
Bartlett | Gabriela | Loretto
Beop Shim | Ezra | Sang
Burnett | Robert | Kenneth
Canellopoulos | Nellos | Panayotis
Chan | Daisy | Tak Wai
Chen | Christine | Tsung
Chen | Uelin
Chiu | Yeong | Jen
Cho | Byong | Un
Chung | Peter | Sang-Hoon
Cohen | Steven | Douglas
Cremer Jr. | Robert | Roger
Cuestas | Edelmira
Dimenstein | Marcel | Clifford
Down | Patricia | Belle
Farace | Alessia | D'Ecclesia
Farace | Arianna | D'Ecclesia
Firmenich | Sophie | Jocelyne
Fuentes | Margaret | Elizabeth
Gabitass | Christine | Anne
Gautschi | Ellen | Catherine
Greenall | Rita | Faye
Gruenhagen | Richard | Dean
Henry | Rosalba | Norma
Horie | Yuri | E
Hsiao | Bi-Khim | Louise
Janssen | Tokiko
Kaegi | Claudia | Alexandra
Kao | Fumei
Kim | Dong | Whan
Kim | Sung | Eun
Knight | Nicola | Ann
Koo | Dong | Soo
Lee | Hye-Won
Lee | Sammy | Wai Sum
Lesley | Dominique | Lisette
Livanos | Peter | George
Maurice | Ivan | Joannes Geoffroy Aime
McDonald | Kevin | George
McNair | Elizabeth | Louise
Merritt | Martin | Joseph
Miura | Kiyoshi
Niedziela | Yvone
Oresko | Robert | Craig
Park | Christopher | L
Person | Linda | Jane
Person | John | Michael
Pillet | Patrick | Louis
Popodi | Alfred | Ernst
Rietema | Jan | Clarence
Rule | Christopher | Marx
Schiemann | Helen | Hedwig
Schwab | Wallace | Joseph
Shaw | Lamar | Henry
Sumar | William | Saxonis
Sun | Bill | Kauo-Hwa
Thrasher | Dale | Henry
Todd | James | Jason
Velay | Heloise | Yvonne
Velazquez | Jose
Warren | Judith
Wibholm | Linda | Zehnder
Wortmann | Furman
Wuest | Lawrence | John
Yip | Ka Kay
Yip | Ka-Hay
Yung | Vivian | Hsu
Zavatti | Samuel | Mario

Dated: June 28, 2002.
Samuel Brown,
Team Manager—Examination Operation, Philadelphia Compliance Services.

[FR Doc. 02-18326 Filed 7-19-02; 8:45 am]

BILLING CODE 4830-01-P